DEPARTMENT OF AGRICULTURE

Forest Service

Notice of New Fee Site; Federal Lands Recreation Enhancement Act (Title VIII, Pub. L. 108-447)

AGENCY: Mark Twain National Forest, Forest Service, USDA.

ACTION: Notice of new fee site.

SUMMARY: The Mark Twain National Forest is proposing to begin charging a $50 fee for the overnight rental of Sinking Tower Cabin. Rentals of other cabins on other National Forests have shown that people appreciate and enjoy the availability of historic rental cabins. Funds from the rental will be used for the continued operation and maintenance of Sinking Tower Cabin. People are invited to comment on this proposal. This fee is only proposed and will be determined upon further analysis and public comment.

DATES: Send any comments about these fee proposals by April 2010 so comments can be compiled, analyzed and shared with a Recreation Resource Advisory Committee. Sinking Tower Cabin will become available for recreation rental June, 2010.

ADDRESSES: Forest Supervisor, Mark Twain National Forest, 401 Fairgrounds Road, Rolla, MO 65401.

FOR FURTHER INFORMATION CONTACT: Kris Swanson, Recreation Fee Coordinator, 573-341-7416.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Mark Twain National Forest has no other cabin rentals. Rental of cabins on other National Forests has shown that people desire having this sort of recreation experience. A market analysis indicates that the $50/per night fee is both reasonable and acceptable for this sort of unique recreation experience.

People wanting to rent Sinking Tower Cabin will need to do so through the National Recreation Reservation Service, at http://www.recreation.gov or by calling 1-877-444-6777. The National Recreation Reservation Service charges a $9 fee for on-line reservations and a $10 fee for phone reservations.

Dated: December 17, 2009.
David C. Whittekiend,
Mark Twain National Forest Supervisor.

[FR Doc. E9-30562 Filed 12-23-09; 8:45 am]

BILLING CODE P